FEDERAL COMMUNICATIONS COMMISSION

[FR ID 332371]

Privacy Act of 1974; System of Records

AGENCY: Federal Communications Commission.

ACTION: Notice; modified system of records.

SUMMARY: The Federal Communications Commission (FCC, Commission, or Agency) is modifying an existing system of records, FCC/WCB-1, Lifeline Program, subject to the Privacy Act of 1974, as amended. This action is necessary to meet the requirements of the Privacy Act to publish in the Federal Register notice of the existence and character of records maintained by the agency. The Lifeline Program (or “Lifeline”) provides discounts for one Lifeline Program voice service per household and/or broadband internet access service (BIAS) to qualifying low-income individuals. Individuals may qualify for Lifeline through proof of income or participation in another qualifying program. Since the enactment of the Telecommunications Act of 1996 (1996 Act), the Lifeline Program has been administered by the Universal Service Administrative Company (USAC) under the direction of the Commission and, by delegation, of the Commission's Wireline Competition Bureau (WCB). This system of records contains information about individuals who have started an application online or applied to participate in the Lifeline Program, respondents to consumer surveys related to the Lifeline program, and enrollment representatives. The modification adds one new routine use.

DATES: This modified system of records will become effective on February 25, 2026. Written comments on the routine uses are due by March 27, 2026. The routine uses in this action will become effective on March 27, 2026, unless comments are received that require a contrary determination.

ADDRESSES: Send comments to Shana Yates, Federal Communications Commission (FCC), 45 L Street NE, Washington, DC 20554, or to privacy@fcc.gov.

FOR FURTHER INFORMATION CONTACT: Shana Yates, (202) 418-0683, or privacy@fcc.gov.

SUPPLEMENTARY INFORMATION: This notice modifies FCC/WCB-1, Lifeline Program system of records as a result of necessary changes and updates. The substantive changes and modifications to the previously published version of the FCC/WCB-1 system of records includes adding one new routine use (listed by the routine use number provided in this notice): (20) Department of Treasury (as required by Executive Order 14249, Protecting America's Bank Account Against Fraud, Waste, and Abuse).

SYSTEM NAME AND NUMBER:

FCC/WCB-1, Lifeline Program.

SECURITY CLASSIFICATION:

Unclassified.

SYSTEM LOCATION:

Universal Service Administrative Company (USAC), 700 12th Street NW, Suite 900, Washington, DC 20005; and Wireline Competition Bureau (WCB), Federal Communications Commission (FCC), 45 L Street NE, Washington, DC 20554.

SYSTEM MANAGER(S):

USAC administers the Lifeline Program for the FCC. Address inquiries to the Universal Service Administrative Company (USAC), 700 12th Street NW, Suite 900, Washington, DC 20005; or Wireline Competition Bureau (WCB), 45 L Street NE, Washington, DC 20554.

AUTHORITY FOR MAINTENANCE OF THE SYSTEM:

47 U.S.C. 151-154, 201-205, 214, 254, 403; Safe Connections Act of 2022, Public Law 117-223, 116 Stat. 2280.

PURPOSE(S) OF THE SYSTEM:

The Lifeline Program provides discounts for one Lifeline voice service and/or BIAS per household, and the initial connection charge in certain Tribal areas to support such service, to qualifying low-income individuals, including survivors eligible to receive emergency communications support. Individuals may qualify for Lifeline through proof of income, proof of participation in another qualifying program, or proof of the need for emergency communications support for survivors, including documentation of financial hardship as defined in FCC regulations and orders. The Lifeline Program system of records is maintained to determine whether the applicant meets the eligibility requirements for initial enrollment and recertification, including the limit of one benefit per household; program administration; dispute resolution; monitoring of enrollment representatives; and, consumer surveys.

CATEGORIES OF INDIVIDUALS COVERED BY THE SYSTEM:

The categories of individuals in this system include those individuals residing in a single household who have applied for benefits; are currently receiving benefits; are individuals who enable another individual in their household to qualify for benefits; are minors whose status qualifies a parent or guardian for benefits; are individuals who have received benefits under the Lifeline Program; are survivors seeking emergency communications support and, as required, their alleged abusers; are individuals that respond to a consumer survey developed using information in this system; and are individuals acting as enrollment representatives and providing information directly or indirectly into USAC's Lifeline Systems on behalf of an eligible telecommunications carrier (ETC) to enroll subscribers, recertify subscribers, or update subscriber information in the Lifeline Program.

CATEGORIES OF RECORDS IN THE SYSTEM:

The categories of records in the system include first and last name of the applicant, subscriber, other household members, survivor, alleged abuser, caregiver, or consumer survey participant; date of birth; last four digits of Social Security Number or a full Tribal identification number; residential address; descriptive address; address based on geographic coordinates (geolocation); internet Protocol (IP) address; contact information; evidence of residence on Tribal lands; qualifying program participation; financial information; username and password; account security questions and answers; Lifeline subscriber identification number; assigned Representative ID Number; Lifeline participation status; amount of benefit received; documents demonstrating eligibility; documents showing only one benefit is received per household; voice recordings; USAC-assigned identifying numbers, such as Application ID, Eligibility Check ID, or eligibility ID numbers; for survivors seeking emergency communications support, documentation related to the submission of a legitimate line separation request to a telecommunications provider and documentation or certification of financial hardship (such as income self-certification or documentation related to receipt of Pell Grants or qualification for federal nutrition programs); and signatures.

For ETC enrollment representatives who register to access the National Verifier or National Lifeline Accountability Database the following information may be collected: first and last name, date of birth, the last four digits of his or her social security number, email address, residential address, or other identity proof documentation.

RECORD SOURCE CATEGORIES:

The sources for the information in the Lifeline Program system of records include ETCs and their registered enrollment representatives; applicants; consumer survey respondents; State, Tribal, and Federal databases; and, third-party identity verifiers.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows. In each of these cases, the FCC will determine whether disclosure of the records is compatible with the purpose(s) for which the records were collected:

1. Program Management—Records may be disclosed to USAC employees to conduct official duties associated with the management, operation, and oversight of the Lifeline Program, NLAD, National Verifier, Lifeline Claims System, and Representative Accountability Database, as directed by the Commission.

2. Application, Enrollment, and Recertification—Records may be disclosed to facilitate the Lifeline application, enrollment, or recertification processes, including for survivors seeking or receiving communications support, records from this system may be disclosed to the individual who originally submitted the records, to the individual applicant to whom the records pertain, or to an authorized representative, entity, or organization supporting the individual in the application, enrollment, or recertification process.

3. Third Party Contractors—Records may be disclosed to an employee of a third-party contractor, or subcontractor of the third- party contractor, engaged by USAC or an ETC to, among other things, develop the Lifeline Eligibility Database, conduct the eligibility verification process, recertification process, run call center and email support operations, and assist in dispute resolution.

4. Business Process Outsourcing (BPO) Entity—Records may be disclosed to an employee of the BPO engaged by USAC or an employee of a third-party contractor engaged by the BPO to perform and review eligibility evaluations where the National Verifier conducts such processes for purposes of conducting the eligibility verification process or recertification process, performing manual eligibility verification (when needed), run call center and email support operations, and to assist in dispute resolution.

5. State Agencies and Other Authorized State Government Entities—Records may be disclosed to designated State agencies and other authorized governmental entities, including State public utility commissions, State departments of health and human services or other State entities that share data with USAC or the FCC, and their agents, as is consistent with applicable Federal and State laws, for purposes of eligibility verification and recertification; administering the Lifeline Program on behalf of ETCs in that State; performing other management and oversight duties and responsibilities; enabling the National Verifier to perform eligibility verification for individuals applying for or re-certifying for Lifeline support; enabling the State to perform eligibility verification for individuals applying for or re-certifying for Lifeline support; providing enrollment and other selected reports to the State; comparing information contained in the National Lifeline Accountability Database (NLAD) and Lifeline eligibility, recertification, and related systems to information contained in state databases associated with State- administered Lifeline Programs in order to assess differences between State and Federal programs and make adjustments.

6. Social Service Agencies and Other Approved Third Parties—Records may be disclosed to social service agencies and other third parties that have been approved by USAC for purposes of assisting individuals in applying for and recertifying for Lifeline support.

7. Federal Agencies—Records may be disclosed to other Federal agencies for the development of and operation under data sharing agreements with USAC or the FCC to enable the National Verifier to perform eligibility verification or recertification for individuals applying for Lifeline support or another federal program using Lifeline qualification as an eligibility criterion.

8. Tribal Nations—Records may be disclosed to Tribal Nations to perform eligibility verification or recertification for individuals applying for Lifeline support, to provide enrollment and other selected reports to Tribal Nations, and for purposes of assisting individuals in applying for and recertifying for Lifeline support.

9. Service Providers—Records may be disclosed to service providers and their registered representatives in states or territories where the National Verifier is operating where the service provider is using the carrier eligibility and status check Application Programming Interface (API) to initiate Lifeline applications and eligibility checks and complete benefit transfer requests. Records may also be disclosed to service providers who have been designated as ETCs to facilitate the provision of service, allow for the service provider to receive reimbursement through the Lifeline Program, to provide information to the relevant ETC about an ETC representative whose account has been disabled for cause, and provide enrollment and other selected reports to service providers.

10. FCC Enforcement Actions—When a record in this system involves an informal complaint filed alleging a violation of the Communications Act of 1934, as amended, or FCC regulations or orders (FCC Rules and Regulations) by an applicant, licensee, certified or regulated entity, or an unlicensed person or entity, the complaint may be provided to the alleged violator for a response. Where a complainant in filing his or her complaint explicitly requests confidentiality of his or her name from public disclosure, the Commission will endeavor to protect such information from public disclosure. Complaints that contain requests for confidentiality may be dismissed if the Commission determines that the request impedes the Commission's ability to investigate and/or resolve the complaint.

11. Congressional Inquiries—Information may be provided to a Congressional office in response to an inquiry from that Congressional office made at the written request of the individual to whom the information pertains.

12. Government-Wide Program Management and Oversight—Records may be disclosed to the Department of Justice (DOJ) to obtain that department's advice regarding disclosure obligations under the Freedom of Information Act (FOIA); or the Office of Management and Budget (OMB) to obtain that office's advice regarding obligations under the Privacy Act.

13. Other Federal Program Eligibility—Records related to an individual's Lifeline participation or qualification status may be disclosed to a Federal agency or contractor when a federal program administered by the agency or its contractor uses qualification for Lifeline as an eligibility criterion.

14. Law Enforcement and Investigation—When the FCC investigates any violation or potential violation of a civil or criminal law, regulation, policy, executed consent decree, order, or any other type of compulsory obligation and determines that a record in this system, either alone or in conjunction with other information, indicates a violation or potential violation of law, regulation, policy, consent decree, order, or other compulsory obligation, the FCC may disclose pertinent information as it deems necessary to the target of an investigation, as well as with the appropriate Federal (including the Internal Revenue Service to investigate income eligibility verification), State, local, Tribal, international, or multinational agencies, or a component of such an agency, responsible for investigating, prosecuting, enforcing, or implementing a statute, rule, regulation, order, or other compulsory obligation.

15. Litigation—Records may be disclosed to the DOJ when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the DOJ is for a purpose that is compatible with the purpose for which the FCC collected the records.

16. Adjudication—Records may be disclosed in a proceeding before a court or adjudicative body, when: (a) the FCC or any component thereof; (b) any employee of the FCC in his or her official capacity; (c) any employee of the FCC in his or her individual capacity; or (d) the United States Government, is a party to litigation or has an interest in such litigation, and by careful review, the FCC determines that the records are both relevant and necessary to the litigation, and that the use of such records is for a purpose that is compatible with the purpose for which the agency collected the records.

17. Breach Notification—Records may be disclosed to appropriate agencies, entities (including USAC), and persons when: (a) the Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

18. Assistance to Federal Agencies and Entities Related to Breaches—Records may be disclosed to another Federal agency, Federal entity, or USAC when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

19. Computer Matching Program Disclosure—Records may be disclosed to (a) Federal, State, and local agencies; and (b) USAC, their employees, and agents for the purpose of developing and conducting computer matching programs as regulated by the Privacy Act of 1974, as amended (5 U.S.C. 552a).

20. Department of Treasury—Records may be disclosed to the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

21. Prevention of Fraud, Waste, and Abuse Disclosure—Records may be disclosed to Federal agencies, non-Federal entities, their employees, and agents (including contractors, their agents or employees; employees or contractors of the agents or designated agents); or contractors, their employees or agents with whom the FCC or USAC has a contract, service agreement, cooperative agreement, or computer matching agreement for the purpose of: (1) detection, prevention, and recovery of improper payments; (2) detection and prevention of fraud, waste, and abuse in Federal programs administered by a Federal agency or non- Federal entity; (3) detection of fraud, waste, and abuse by individuals in their operations and programs, but only to the extent that the information shared is necessary and relevant to verify pre- award and prepayment requirements prior to the release of Federal funds, prevent and recover improper payments for services rendered under programs of the FCC or of those Federal agencies and non-Federal entities to which the FCC or USAC provides information under this routine use.

22. Non-Federal Personnel—Records may be disclosed to non-Federal personnel, including FCC or USAC contractors, other vendors (e.g., identity verification services), grantees, or volunteers who have been engaged to assist the FCC or USAC in the performance of a contract service, grant, cooperative agreement, or other activity related to this system of records that has not been otherwise identified in this Notice and who need to have access to the records in order to perform their activity.

23. Consumer Survey Development and Execution—Records may be disclosed to contractors, grantees, experts, consultants and their agents, or others performing or working under a contract service, grant, or cooperative agreement with the FCC or USAC, when necessary to develop and conduct consumer surveys as described in this system of records. Individuals who are provided information under these routine use conditions are subject to Privacy Act requirements and disclosure limitations imposed on the Commission.

POLICIES AND PRACTICES FOR STORAGE OF RECORDS:

The information pertaining to the Lifeline Program includes electronic records, files, data, paper documents, records, and may include audio recordings of calls. Records are maintained in secure, limited access areas. Physical entry by unauthorized persons is restricted through use of locks, passwords, and other security measures. Both USAC and its contractors will jointly manage the electronic data housed at USAC and at the contractors' locations. Paper documents and other physical records (i.e., tapes, compact discs, etc.) will be kept in locked, controlled access areas. Paper documents submitted by applicants to the Lifeline Program will be digitized, and paper copies will be immediately destroyed.

POLICIES AND PRACTICES FOR RETRIEVAL OF RECORDS:

Information in the Lifeline Program system of records may be retrieved by various identifiers, including, but not limited to the individual's name, last four digits of the Social Security Number (SSN), Tribal identification number, date of birth, phone number, residential address, and Lifeline subscriber identification number.

POLICIES AND PRACTICES FOR RETENTION AND DISPOSAL OF RECORDS:

The information in this system is maintained and disposed of in accordance with the National Archives and Records Administration (NARA) Records Schedule DAA-0173-2017-0001-0002 (Universal Service).

ADMINISTRATIVE, TECHNICAL, AND PHYSICAL SAFEGUARDS:

The electronic records, data, and files are maintained in the FCC and the USAC computer network databases, which are protected by the FCC's and USAC's privacy safeguards, a comprehensive and dynamic set of safety and security protocols and features that are designed to meet all Federal IT privacy standards, including those required by OMB, the National Institute of Standard and Technology (NIST) and the Federal Information Security Modernization Act of 2014 (FISMA). In addition, access to the electronic files is restricted to authorized USAC and contractors' supervisors and staff and to the FCC's IT supervisors and staff and to the IT contractors who maintain these computer databases. Other FCC employees and contractors may be granted access only on a “need-to-know” basis. In addition, data in the network servers for both USAC and its contractors will be routinely backed-up. The servers will be stored in secured environments to protect the data.

The paper documents and files are maintained in file cabinets in USAC and the contractors' office suites. The file cabinets are locked when not in use and at the end of the business day. Access to these files is restricted to authorized USAC and its contractors' staffs.

RECORDS ACCESS PROCEDURES:

Individuals wishing to request access to and/or amendment of records about themselves should follow the Notification Procedures below.

CONTESTING RECORD PROCEDURES:

Individuals wishing to request an amendment of records about themselves should follow the Notification Procedures below.

NOTIFICATION PROCEDURES:

Individuals wishing to determine whether this system of records contains information about themselves may do so by writing to privacy@fcc.gov. Individuals requesting access must also comply with the FCC's Privacy Act regulations regarding verification of identity to gain access to the records (47 CFR part 0, subpart E).

EXEMPTIONS PROMULGATED FOR THE SYSTEM:

None.

HISTORY:

89 FR 28777 (Apr. 19, 2024).

Federal Communications Commission.
Marlene Dortch,
Secretary.

[FR Doc. 2026-03741 Filed 2-24-26; 8:45 am]

BILLING CODE 6712-01-P